DEPARTMENT OF DEFENSE

Office of the Department of the Air Force

Notice To Extend Public Comment Period for the Draft Environmental Impact Statement for the United States Air Force F-35A Operational Beddown Air National Guard

AGENCY: Department of the Air Force.

ACTION: Notification of extension of public comment period.

SUMMARY: The U.S. Air Force is issuing this notice to advise the public of an extension to the public comment period. The initial Notice of Availability was published in the Federal Register on August 9, 2019 (Vol. 84, No. 154/Notices/39296), and established a public comment period from August 9, 2019 through September 27, 2019. The Air Force has extended the deadline for submitting public comments to November 1, 2019. All substantive comments received by November 1, 2019 will be addressed in the Public Comment Section of the Final EIS.

FOR FURTHER INFORMATION CONTACT: Mr. Ramon Ortiz, NGB/A4AM, 3501 Fetchet Avenue, Joint Base Andrews, MD 20762-5157, ph: (240) 612-7042.

Adriane Paris,
Acting Air Force Federal Register Liaison Officer.

[FR Doc. 2019-21860 Filed 10-4-19; 8:45 am]

BILLING CODE 5001-10-P